DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed revision of a currently approved collection “National Longitudinal Survey of Youth 1979.” A copy of the proposed information collection request (ICR) can be obtained by contacting the individual listed in the Addresses section of this notice.

DATES: Written comments must be submitted to the office listed in the Addresses section below on or before May 31, 2016.

ADDRESSES: Send comments to Nora Kincaid, BLS Clearance Officer, Division of Management Systems, Bureau of Labor Statistics, Room 4080, 2 Massachusetts Avenue NE., Washington, DC 20212. Written comments also may be transmitted by fax to 202-691-5111 this is not a toll free number).

FOR FURTHER INFORMATION CONTACT: Nora Kincaid, BLS Clearance Officer, 202-691-7628 (this is not a toll free number). (See ADDRESSES section.)

SUPPLEMENTARY INFORMATION:

I. Background

The National Longitudinal Survey of Youth 1979 (NLSY79) is a representative national sample of persons who were born in the years 1957 to 1964 and lived in the U.S. in 1978. These respondents were ages 14 to 22 when the first round of interviews began in 1979; they were ages 51 to 58 as of December 31, 2015. The NLSY79 was conducted annually from 1979 to 1994 and has been conducted biennially since 1994. The longitudinal focus of this survey requires information to be collected from the same individuals over many years in order to trace their education, training, work experience, fertility, income, and program participation.

In addition to the main NLSY79, the biological children of female NLSY79 respondents have been surveyed since 1986. A battery of child cognitive, socio-emotional, and physiological assessments has been administered biennially since 1986 to NLSY79 mothers and their children. Starting in 1994, children who had reached age 15 by December 31 of the survey year (the Young Adults) were interviewed about their work experiences, training, schooling, health, fertility, self-esteem, and other topics. Funding for the NLSY79 Child and Young Adult surveys is provided by the Eunice Kennedy Shriver National Institute of Child Health and Human Development through an interagency agreement with the BLS and through a grant awarded to researchers at the Ohio State University Center for Human Resource Research (CHRR). The interagency agreement funds data collection for children and young adults up to age 22. The grant funds data collection for young adults age 23 and older. One of the goals of the Department of Labor (DOL) is to produce and disseminate timely, accurate, and relevant information about the U.S. labor force. The BLS contributes to this goal by gathering information about the labor force and labor market and disseminating it to policymakers and the public so that participants in those markets can make more informed, and thus more efficient, choices. Research based on the NLSY79 contributes to the formation of national policy in the areas of education, training, employment programs, and school-to-work transitions. In addition to the reports that the BLS produces based on data from the NLSY79, members of the academic community publish articles and reports based on NLSY79 data for the DOL and other funding agencies. To date, more than 2,578 articles examining NLSY79 data have been published in scholarly journals.

The survey design provides data gathered from the same respondents over time to form the only data set that contains this type of information for this important population group. Without the collection of these data, an accurate longitudinal data set could not be provided to researchers and policymakers, thus adversely affecting the DOL's ability to perform its policy- and report-making activities.

II. Current Action

The BLS seeks approval to conduct round 27 of the NLSY79 and the associated surveys of biological children of female NLSY79 respondents.

The Young Adult Survey will be administered to young adults age 12 and older who are the biological children of female NLSY79 respondents. These young adults will be contacted regardless of whether they reside with their mothers. Members of the Young Adult grant sample are contacted for interviews every other round once they reach age 31. The NLSY79 Young Adult Survey involves interviews with approximately 5,445 young adults ages 12 and older.

During the field period, about 10 main NLSY79 interviews will be validated to ascertain whether the interview took place as the interviewer reported and whether the interview was done in a polite and professional manner.

BLS has undertaken a continuing redesign effort to examine the current content of the NLSY79 and provide direction for changes that may be appropriate as the respondents age. The 2016 instrument reflects a number of changes recommended by experts in various fields of social science and by our own internal review of the survey's content. Additions to the questionnaire are accompanied by deletions of previous questions so that the overall time required to complete the survey should remain about the same or even decline slightly as compared to 2014.

The round 27 questionnaire includes new questions on job tasks, as well as questions on menopause that will be asked of the female respondents. In addition, the assets module that has been asked in odd-numbered rounds since Round 19 will rotate back into the questionnaire.

Questions on job tasks will be added to the employment section for Round 27. All respondents (male and female) who have held a job since their last interview will be asked these questions about their current or most recent job (job #1). The items cover job tasks in three key domains: Things (physical or repetitive tasks), data (analytic tasks; problem solving), and people (interpersonal tasks). Respondents are first asked how much of their workday involves carrying out short, repetitive tasks, doing physical tasks, and managing or supervising other workers. They are next asked how often they engage in problem solving on their job, and a separate question asks how often they use advanced mathematics on their job. They are also asked about the longest document that they typically read as part of their job and how often their job involves face-to-face contact with people other than co-workers or supervisors.

Questions will be added to the health section of the NLSY79 in order to date the onset of menopause among the female sample members. The questions will be asked of all women. We expect that most of the women will have reached menopause as the youngest of them will be 52 in 2016. The menopause questions collect age of last menstrual cycle, whether the woman has had a hysterectomy, whether the woman is taking hormone replacement therapy, and, if taking HRT, whether she had a period in the 12 months prior to beginning HRT.

The primary change to the Child and Young Adult Surveys is that a separate child survey will no longer be conducted. This sample includes very few children age 14 and under and so we will no longer conduct a separate child survey; children age 12 and older will join the Young Adult sample. The Young Adult sample will include 1,205 respondents ages 12-22 and 4,240 respondents age 23 and older in Round 27.

Most of the changes made to the Young Adult questionnaire for 2016 have been made to streamline questions and sections in order to cut down on the amount of time it takes for a respondent to complete an interview.

III. Desired Focus of Comments

The BLS is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Revision of a previously approved collection.

Agency: Bureau of Labor Statistics.

Title: National Longitudinal Survey of Youth 1979.

OMB Number: 1220-0109.

Affected Public: Individuals or households.

Form | Total respondents | Frequency | Total responses | Average time per response (minutes) | Estimated total burden (hours)
NLSY79 Round 27 Main Survey | 7,100 | Biennially | 7,100 | 70 | 8,283
Round 27 Validation Interviews | 10 | Biennially | 10 | 6 | 1
Young Adult Survey (Ages 12 to 13) | 45 | Biennially | 45 | 50 | 38
Young Adult Survey (Ages 14 to 18) | 400 | Biennially | 400 | 66 | 440
Young Adult Survey (Ages 19 to 22) | 760 | Biennially | 760 | 60 | 760
Young Adult Survey, Grant component (Age 23 to 28), interview | 2,020 | Biennially | 2,020 | 55 | 1,852
Young Adult Survey, Grant component (Age 29 and older), interview | 2,220 | Biennially | 2,220 | 70 | 2,590
Totals ¹ | 12,545 |  | 12,555 |  | 13,964
¹ The total number of 12,545 respondents across all the survey instruments is a mutually exclusive count that does not include the 10 reinterview respondents, who were previously counted among the main and young adult survey respondents.

Total Burden Cost (capital/startup): $0.

Total Burden Cost (operating/maintenance): $0.

Comments submitted in response to this notice will be summarized and/or included in the request for Office of Management and Budget approval of the information collection request; they also will become a matter of public record.

Signed at Washington, DC, this 24th day of March 2016.
Kimberly D. Hill,
Chief, Division of Management Systems, Bureau of Labor Statistics.

[FR Doc. 2016-07033 Filed 3-28-16; 8:45 am]

BILLING CODE 4510-24-P